DEPARTMENT OF HEALTH AND HUMAN SERVICES

Centers for Disease Control and Prevention

[30Day-15-15AME]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Monitoring and Reporting System for the National Tobacco Control Program—New—National Center for Chronic Disease Prevention and Health Promotion (NCCDPHP), Centers for Disease Control and Prevention (CDC).

Background and Brief Description

The Centers for Disease Control and Prevention (CDC) works with states, territories, tribal organizations, and the District of Columbia (collectively referred to as “state-based” programs) to develop, implement, manage, and evaluate tobacco prevention and control programs. Support and guidance for these programs have been provided through cooperative agreement funding and technical assistance administered by CDC's National Center for Chronic Disease Prevention and Health Promotion (NCCDPHP).

NCCDPHP cooperative agreements DP15-1509 (National State-Based Tobacco Control Programs) and DP14-1410PPHF14 (Public Health Approaches for Ensuring Quitline Capacity) continue to support efforts since 1999 to build state health department infrastructure and capacity to implement comprehensive tobacco prevention and control programs. Through these cooperative agreements, health departments in all 50 states, the District of Columbia, Puerto Rico and Guam are funded to implement evidence-based environmental, policy, and systems strategies and activities designed to reduce tobacco use, secondhand smoke exposure, tobacco-related disparities and associated disease, disability, and death.

As part of routine monitoring, assessing progress, and ensuring accountability, cooperative agreement awardees will report information about their work plan objectives, activities, and performance measures. Each awardee will submit an Annual Work Plan Progress Report using an Excel-based Work Plan Tool. The estimated burden per response is three hours for each Annual Work Plan Progress report. In addition, each awardee will submit an Annual Budget Progress Report using an Excel-based Budget Tool. The estimated burden per response is two hours for each Annual Budget Progress Report.

In Year one, each awardee will have additional burden related to initial population of the reporting tools. Initial population of the Work Plan Tool is estimated to be six hours per response, and initial population of the Budget Tool is estimated to be four hours per response. Initial population of the tools is a one-time activity which is annualized over the three years of the information collection request. Due to annualization, the 53 awardees are represented as 18 awardees (53/3) in the burden table. After completing the initial population of the tools, pertinent information only needs to be updated for each annual report. The same instruments will be used for all information collection and reporting.

Awardees will upload their information to www.grants.gov on an annual basis to satisfy routine cooperative agreement reporting requirements. CDC will use the information collected to monitor each awardee's progress and to identify facilitators and challenges to program implementation and achievement of outcomes.

OMB approval is requested for three years. Participation in the information collection is required as a condition of funding. There are no costs to respondents other than their time. The total estimated annualized burden hours are 445.

Estimated Annualized Burden Hours
Type of respondent | Form name | Number of respondents | Number of responses per respondent | Average burden per response (in hours)
State Tobacco Control Managers | Initial Population of the Work Plan Tool | 18 | 1 | 6
| Annual Work Plan Progress Report | 53 | 1 | 3
| Initial Population of the Budget Tool | 18 | 1 | 4
| Annual Budget Progress Report | 53 | 1 | 2

Leroy A. Richardson,
Chief, Information Collection Review Office, Office of Scientific Integrity, Office of the Associate Director for Science, Office of the Director, Centers for Disease Control and Prevention.

[FR Doc. 2015-19579 Filed 8-7-15; 8:45 am]

BILLING CODE 4163-18-P